FEDERAL COMMUNICATIONS COMMISSION

47 CFR Part 73

[DA 05-3013; MB Docket No. 05-46, RM-11156; MB Docket No. 05-109, RM-11192]

Radio Broadcasting Services; Hornbeck, LA; and Mojave and Trona, CA

AGENCY: Federal Communications Commission.

ACTION: Final rule.

SUMMARY: The Audio Division, at the request of Charles Crawford, allots Channel 269A at Hornbeck, Louisiana, as the community's first local FM service. Channel 269A can be allotted to Hornbeck, Louisiana, in compliance with the Commission's minimum distance separation requirements with a site restriction of 7.2 km (4.5 miles) west of Hornbeck. The coordinates for Channel 269A at Hornbeck, Louisiana, are 31-18-42 North Latitude and 93-28-12 West Longitude. See SUPPLEMENTARY INFORMATION infra.

DATES: Effective January 9, 2006.

FOR FURTHER INFORMATION CONTACT: Deborah Dupont, Media Bureau, (202) 418-2180.

SUPPLEMENTARY INFORMATION: This is a synopsis of the Commission's Report and Order, MB Docket Nos. 05-46 and 05-109, adopted November 23, 2005, and released November 25, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

The Audio Division further, at the request of Dana J. Puopolo, allots Channel 255A at Mojave, California, as the community's third local FM service. Channel 255A can be allotted to Mojave, California, in compliance with the Commission's minimum distance separation requirements with a site restriction of 10.3 km (6.4 miles) northeast of Mojave. The coordinates for Channel 255A at Mojave, California, are 35-06-07 North Latitude and 118-04-41 West Longitude. Concurrence in the allotment by the Government of Mexico is required because the proposed allotment is located within 320 kilometers (199 miles) of the U.S.-Mexican border. Although Mexican concurrence has been requested, notification has not yet been received. If a construction permit for Channel 255A at Mojave, California, is granted prior to receipt of formal concurrence by the Mexican government, the authorization will include the following condition: “Operation with the facilities specified herein for Mojave, California, is subject to modification, suspension, or termination without right to hearing, if found by the Commission to be necessary I order to conform to the Mexico-United States FM Broadcast Agreement, or if specifically objected to by the Government of Mexico.” In order to accommodate that allotment, the Audio Division further, at the request of Dana J. Puopolo, substitutes Channel 247A for vacant Channel 255A at Trona, California. Channel 247A can be allotted to Trona, California, in compliance with the Commission's minimum distance separation requirements at city reference coordinates, without site restriction. The coordinates for Channel 247A at Trona, California, are 35-45-46 North Latitude and 117-22-19 West Longitude.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 255A at Mojave, by removing Channel 255A and by adding Channel 247A at Trona.

Federal Communications Commission.
John A. Karousos,
Assistant Chief, Audio Division, Media Bureau.

[FR Doc. 05-24032 Filed 12-13-05; 8:45 am]

BILLING CODE 6712-01-P